DEPARTMENT OF LABOR

Employment and Training Administration

[TA-W-60,161]

Wright and Lato, Inc., East Orange, NJ; Notice of Termination of Investigation

Pursuant to Section 221 of the Trade Act of 1974, as amended, an investigation was initiated on September 28, 2006 in response to a petition filed by a Company Official on behalf of workers at Wright and Lato, Inc., East Orange, New Jersey.

The petitioner has requested that the petition be withdrawn. Consequently, the investigation has been terminated.

Dated: December 5, 2006.
Elliott S. Kushner,
Certifying Officer, Division of Trade Adjustment Assistance.

[FR Doc. E6-21253 Filed 12-13-06; 8:45 am]

BILLING CODE 4510-30-P